DEPARTMENT OF COMMERCE

International Trade Administration

[C-533-876, C-570-061]

Fine Denier Polyester Staple Fiber From the People's Republic of China and India: Postponement of Preliminary Determinations in the Countervailing Duty Investigations

AGENCY: Enforcement and Compliance, International Trade Administration, Department of Commerce.

DATES: Applicable August 8, 2017.

FOR FURTHER INFORMATION CONTACT: Yasmin Bordas at (202) 482-3813 (People's Republic of China (PRC)); Trisha Tran at (202) 482-4852 (India), AD/CVD Operations, Enforcement and Compliance, International Trade Administration, U.S. Department of Commerce, 1401 Constitution Avenue NW., Washington, DC 20230.

SUPPLEMENTARY INFORMATION:

Background

On June 20, 2017, the Department of Commerce (the Department) initiated countervailing duty (CVD) investigations of imports of fine denier polyester fiber (fine denier PSF) from the PRC and India.¹ Currently, the preliminary determinations are due no later than August 24, 2017.

¹ See Fine Denier Polyester Staple Fiber From India and the People's Republic of China: Initiation of Countervailing Duty Investigations, 82 FR 29029 (June 27, 2017) (Initiation Notice).

Postponement of Preliminary Determinations

Section 703(b)(1) of the Tariff Act of 1930, as amended (the Act), requires the Department to issue the preliminary determination in a countervailing duty investigation within 65 days after the date on which the Department initiated the investigation. However, section 703(c)(1) of the Act permits the Department to postpone the preliminary determination until no later than 130 days after the date on which the Department initiated the investigation if: (A) The petitioners makes a timely request for a postponement; or (B) the Department concludes that the parties concerned are cooperating, and determines that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request.

On July 26, 2017, the petitioners ² submitted a timely request that the Department postpone the preliminary CVD determinations.³ The petitioners state that they request postponement of the preliminary determinations because the current deadline for initial questionnaire responses is August 30, 2017, in the India investigation and September 1, 2017, in the PRC investigation. According to the petitioners, postponement of the preliminary determination deadline in each case would allow sufficient time for the Department and interested parties to analyze questionnaire responses and permit the issuance of supplemental questionnaires, if necessary.

² The petitioners are DAK Americas LLC, Nan Ya Plastics Corporation, America, and Auriga Polymers Inc.

³ Letter from the petitioners, “Fine Denier Polyester Staple Fiber from the People's Republic of China and India—Petitioners' Request for Postponement of the Preliminary Determinations,” dated July 26, 2017.

In accordance with 19 CFR 351.205(e), the petitioners have stated the reasons for requesting a postponement of the preliminary determinations, and the Department finds no compelling reason to deny the request. Therefore, in accordance with section 703(c)(1)(A) of the Act, the Department is postponing the deadline for the preliminary determinations to no later than 130 days after the date on which these investigations were initiated, i.e., October 30, 2017.⁴ Pursuant to section 705(a)(1) of the Act and 19 CFR 351.210(b)(1), the deadline for the final determinations of these investigations will continue to be 75 days after the date of the preliminary determinations.

⁴ Postponing the preliminary determinations to 130 days after initiation would place the deadline on Saturday, October 28, 2017. The Department's practice dictates that where a deadline falls on a weekend or Federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: August 2, 2017.
Carole Showers,
Executive Director, Office of Policy, performing the duties of Deputy Assistant Secretary for Enforcement and Compliance.

[FR Doc. 2017-16688 Filed 8-7-17; 8:45 am]

BILLING CODE 3510-DS-P